DEPARTMENT OF TRANSPORTATION

Federal Aviation Administration

14 CFR Part 39

[Docket No. FAA-2015-0908; Directorate Identifier 2015-SW-007-AD; Amendment 39-18136; AD 2015-05-52]

RIN 2120-AA64

Airworthiness Directives; Agusta S.p.A. Helicopters

AGENCY: Federal Aviation Administration (FAA), Department of Transportation (DOT).

ACTION: Final rule; request for comments.

SUMMARY: We are publishing a new airworthiness directive (AD) for Agusta S.p.A. (Agusta) Model A109, A109A, A109A II, A109C, A109K2, A109E, A119, A109S, AW119 MKII, and AW109SP helicopters, which was sent previously to all known U.S. owners and operators of these helicopters. This AD requires inspecting certain tail rotor (T/R) pitch control links (pitch links) for freedom of movement, corrosion, excessive friction of the spherical bearings, and cracks. This AD is prompted by a report of an in-flight failure of a pitch link on an Agusta Model AW119 MKII helicopter. These actions are intended to prevent loss of T/R pitch control and subsequent loss of control of the helicopter.

DATES: This AD becomes effective April 29, 2015 to all persons except those persons to whom it was made immediately effective by Emergency AD (EAD) 2015-05-52, issued on March 4, 2015, which contains the requirements of this AD.

The Director of the Federal Register approved the incorporation by reference of certain documents listed in this AD as of April 29, 2015.

We must receive comments on this AD by June 15, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, any incorporated by reference service information, the European Aviation Safety Agency (EASA) AD, the economic evaluation, any comments received, and other information. The street address for the Docket Operations Office (telephone 800-647-5527) is in the ADDRESSES section. Comments will be available in the AD docket shortly after receipt.

For service information identified in this AD, contact AgustaWestland, Product Support Engineering, Via del Gregge, 100, 21015 Lonate Pozzolo (VA) Italy, ATTN: Maurizio D'Angelo; telephone 39-0331-664757; fax 39 0331-664680; or at http://www.agustawestland.com/technical-bulletins. You may review the referenced service information at the FAA, Office of the Regional Counsel, Southwest Region, 2601 Meacham Blvd., Room 663, Fort Worth, Texas 76137. It is also available on the Internet at http://www.regulations.gov in Docket No. FAA-2015-0908.

FOR FURTHER INFORMATION CONTACT: Martin Crane, Aviation Safety Engineer, Safety Management Group, Rotorcraft Directorate, FAA, 2601 Meacham Blvd., Fort Worth, Texas 76137; telephone (817) 222-5110; email martin.r.crane@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On March 4, 2015, we issued EAD 2015-05-52, which requires inspecting each pitch link part number (P/N) 109-0130-05-117 with 100 hours or less time-in-service since overhaul for freedom of movement, corrosion, and to determine the force required to rotate the spherical bearings. If there is any corrosion or if the force exceeds a certain amount, then the pitch link is unairworthy. If there is no corrosion and the force does not exceed the amount, then EAD 2015-05-52 requires cleaning and visually inspecting the pitch link rod for a crack. If there is a crack, then the pitch link is unairworthy. EAD 2015-05-52 was sent previously to all known U.S. owners and operators of these helicopters and resulted from a report of an in-flight failure of a pitch link P/N 109-0130-05-117 on an Agusta Model AW119 MKII helicopter.

EAD 2015-05-52 was prompted by EAD No. 2015-0035-E, dated February 27, 2015, issued by EASA, which is the Technical Agent for the Member States of the European Union, to correct an unsafe condition for AgustaWestland S.p.A. Model A109A, A109AII, A109C, A109E, A109K2, A109LUH, A109S, AW109SP, A119, and AW119MKII helicopters. EASA advises of the reported “in-flight breaking” of the T/R pitch control link P/N 109-0130-05-117. EASA EAD 2015-0035-E requires inspecting the T/R pitch control link for corrosion, rotation resistance or binding, and cracks.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information Under 1 CFR Part 51

AgustaWestland issued Alert Bollettino Tecnico (BT) Nos. 109-145, 109EP-141, 109K-65, 109S-065, 109SP-087, and 119-072, all revision A, and all dated February 27, 2015. These alert BTs specify inspections of pitch link P/N 109-0130-05-117 for corrosion, freedom of movement, excessive friction of the spherical bearings, and cracks. This information is reasonably available at http://www.regulations.gov in Docket No. FAA-2015-0908. Or see ADDRESSES for other ways to access this service information.

AD Requirements

This AD retains the requirements of EAD 2015-05-52 and requires inspecting the pitch link for freedom of movement for rotation resistance or binding. This AD also requires removing the pitch link and inspecting each pitch link spherical bearing for corrosion and the force required to rotate each pitch link spherical bearing. If there is any corrosion, the pitch link is unairworthy. If the force required to rotate a spherical bearing in either end of the pitch link is greater than 7.30 N (1.64 pounds force), the pitch link is unairworthy. If the force required to rotate the spherical bearings in both ends of the pitch link is equal to or less than 7.30 N (1.64 pounds force), this AD requires cleaning and visually inspecting the pitch link rod for a crack using a 10× or higher power magnifying glass or by performing a dye penetrant inspection. If there is a crack, the pitch link is unairworthy.

Interim Action

We consider this AD to be an interim action. If final action is later identified, we might consider further rulemaking.

Costs of Compliance

We estimate that this AD affects 253 helicopters of U.S. Registry. We estimate that operators may incur the following costs in order to comply with this AD. It takes about 2.5 work-hours at $85 per work-hour to perform the inspections, for a total cost of $213 per helicopter and $53,889 for the U.S. operator fleet. If required, replacing a pitch link will cost about $1,957 for parts. We do not anticipate any additional labor costs to install a new pitch link as opposed to re-installing the existing pitch link.

According to AgustaWestland's service information some of the costs of this AD may be covered under warranty, thereby reducing the cost impact on affected individuals. We do not control warranty coverage by Agusta. Accordingly, we have included all costs in our cost estimate.

FAA's Justification and Determination of the Effective Date

Providing an opportunity for public comments prior to adopting these AD requirements would delay implementing the safety actions needed to correct this known unsafe condition. Therefore, we found and continue to find that the risk to the flying public justifies waiving notice and comment prior to the adoption of this rule because the previously described unsafe condition can adversely affect the controllability of the helicopter and the initial required action must be accomplished before further flight.

Since it was found that immediate corrective action was required, notice and opportunity for prior public comment before issuing this AD were impracticable and contrary to the public interest and good cause existed to make the AD effective immediately by EAD 2015-05-52, issued on March 4, 2015, to all known U.S. owners and operators of these helicopters. These conditions still exist and the AD is hereby published in the Federal Register as an amendment to section 39.13 of the Federal Aviation Regulations (14 CFR 39.13) to make it effective to all persons.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-05-52 Agusta S.p.A.: Amendment 39-18136; Docket No. FAA-2015-0908; Directorate Identifier 2015-SW-007-AD.

(a) Applicability

This AD applies to Agusta S.p.A. Model A109, A109A, A109A II, A109C, A109K2, A109E, A119, A109S, AW119 MKII, and AW109SP helicopters, certificated in any category, with a tail rotor pitch control link (pitch link) part number 109-0130-05-117 with 100 hours or less time-in-service since overhaul.

(b) Unsafe Condition

This AD defines the unsafe condition as failure of a pitch link. This condition could result in loss of tail rotor pitch control and subsequent loss of control of the helicopter.

(c) Effective Date

This AD becomes effective April 29, 2015 to all persons except those persons to whom it was made immediately effective by Emergency AD 2015-05-52, issued on March 4, 2015, which contains the requirements of this AD.

(d) Compliance

You are responsible for performing each action required by this AD within the specified compliance time unless it has already been accomplished prior to that time.

(e) Required Actions

(1) Before further flight, inspect the pitch link for freedom of movement while it is installed on the helicopter.

(i) If there is rotation resistance or binding, before further flight, perform the actions in paragraphs (e)(2) through (e)(3) of this AD.

(ii) If there is no rotation resistance and no binding, within 5 hours time-in-service, perform the actions in paragraphs (e)(2) through (e)(3) of this AD.

(2) Remove the pitch link and inspect each pitch link spherical bearing for corrosion. If there is any corrosion, the pitch link is unairworthy.

(3) Determine the force required to rotate each pitch link spherical bearing as depicted in Figure 1 of AgustaWestland Alert Bollettino Tecnico (BT) No. 109-145, 109EP-141, 109K-65, 109S-065, 109SP-087, or 119-072, all Revision A, and all dated February 27, 2015, as applicable to your model helicopter.

(i) If the force required to rotate a spherical bearing in either end of the pitch link is greater than 7.30 N (1.64 pounds force), the pitch link is unairworthy.

(ii) If the force required to rotate the spherical bearings in both ends of the pitch link is equal to or less than 7.30 N (1.64 pounds force), after cleaning the pitch link rod using aliphatic naphtha or equivalent and a soft non-metallic bristle brush, visually inspect the pitch link rod for a crack in the area depicted in Figure 1 of AgustaWestland Alert BT No. 109-145, 109EP-141, 109K-65, 109S-065, 109SP-087, or 119-072, all Revision A, and all dated February 27, 2015, as applicable to your model helicopter, using a 10x or higher power magnifying glass or by dye penetrant inspection. If there is a crack, the pitch link is unairworthy.

(f) Alternative Methods of Compliance (AMOCs)

(1) The Manager, Safety Management Group, FAA, may approve AMOCs for this AD. Send your proposal to: Martin Crane, Aviation Safety Engineer, Safety Management Group, Rotorcraft Directorate, FAA, 2601 Meacham Blvd., Fort Worth, Texas 76137; telephone (817) 222-5110; email martin.r.crane@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) Emergency AD No. 2015-0035-E, dated February 27, 2015. You may view the EASA AD on the Internet at http://www.regulations.gov in Docket No. FAA-2015-0908.

(h) Subject

Joint Aircraft Service Component (JASC) Code: 6720, Tail Rotor Controls.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) AgustaWestland Alert Bollettino Tecnico (BT) No. 109-145, Revision A, dated February 27, 2015.

(ii) AgustaWestland Alert BT No. 109EP-141, Revision A, dated February 27, 2015.

(iii) AgustaWestland Alert BT No. 109K-65, Revision A, dated February 27, 2015.

(iv) AgustaWestland Alert BT No. 109S-065, Revision A, dated February 27, 2015.

(v) AgustaWestland Alert BT No. 109SP-087, Revision A, dated February 27, 2015.

(vi) AgustaWestland Alert BT No. 119-072, Revision A, dated February 27, 2015.

(3) For AgustaWestland service information identified in this AD, contact AgustaWestland, Product Support Engineering, Via del Gregge, 100, 21015 Lonate Pozzolo (VA) Italy, ATTN: Maurizio D'Angelo; telephone 39-0331-664757; fax 39 0331-664680; or at http://www.agustawestland.com/technical-bulletins.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on April 6, 2015.
Lance T. Gant,
Acting Directorate Manager, Rotorcraft Directorate, Aircraft Certification Service.

[FR Doc. 2015-08384 Filed 4-13-15; 8:45 am]

BILLING CODE 4910-13-P